DEPARTMENT OF COMMERCE

National Institute of Standards and Technology

Proposed Voluntary Product Standard PS 1-09, Structural Plywood

[Docket No.: 0911301418-91419-01]

AGENCY: National Institute of Standards and Technology, Commerce.

ACTION: Notice and request for comments.

SUMMARY: The National Institute of Standards and Technology (NIST) is distributing for public comment a proposed revision of Voluntary Product Standard (PS) 1-07, Structural Plywood. The proposed revised standard, PS 1-09, Structural Plywood, was prepared by the Standing Committee for PS 1 and establishes requirements, for those who choose to adhere to the standard, for the principal types and grades of structural plywood and provides a basis for common understanding among producers, distributors, and users of the product. Interested parties are invited to review the proposed standard and submit comments to NIST.

DATES: Written comments regarding the proposed revision, PS 1-09, should be submitted to the Standards Services Division, NIST, no later than January 19, 2010.

ADDRESSES: An electronic copy (an Adobe Acrobat File) of the proposed standard, PS 1-09, can be obtained at the following Web site http://ts.nist.gov/Standards/Conformity/vps.cfm. This site also includes an electronic copy of PS 1-07 (the existing standard) and a summary of significant changes. Written comments on the proposed revision should be submitted to David F. Alderman, Standards Services Division, NIST, 100 Bureau Drive, Stop 2150, Gaithersburg, MD 20899-2150. Electronic comments may be submitted to david.alderman@nist.gov.

FOR FURTHER INFORMATION CONTACT: David F. Alderman, Standards Services Division, National Institute of Standards and Technology, telephone: (301) 975-4019; fax: 301-975-4715, e-mail: david.alderman@nist.gov.

SUPPLEMENTARY INFORMATION: Proposed Voluntary Product Standard PS 1-09 establishes requirements, for those who choose to adhere to the standard, for the principal types and grades of structural plywood. This standard covers the wood species, veneer grading, adhesive bonds, panel construction and workmanship, dimensions and tolerances, marking, moisture content, and packing of plywood intended for construction and industrial uses.

The proposed revision of the standard, PS 1-07, Structural Plywood, has been developed and is being processed in accordance with Department of Commerce provisions in Title 15 Code of Federal Regulations Part 10, Procedures for the Development of Voluntary Product Standards, as amended (published June 20, 1986). The Standing Committee for PS 1 is responsible for maintaining, revising, and interpreting the standard and comprises producers, distributors, users, and others with an interest in the standard.

After reviewing the standard, the Committee determined that updates were needed to reflect current industry practices. The Committee held meetings to review the standard and make needed changes.

Committee members voted on the revision and it was approved unanimously. The Committee submitted a report to NIST with the voting results and the draft revised standard. NIST has determined that the revised standard should be issued for public comment.

This revision includes the following changes:

1. Panel thickness: In order to resolve the inconsistency with NIST standards used by “weights and measures” regulators, PS 1 will require labeling with both a “Performance Category” which is a fractional label such as “15/32”, in addition to a decimal thickness declaration, such as “THICKNESS 0.438 IN”. The Performance Category will maintain consistency with the nominal panel thickness specifications required in the U.S. model codes. The decimal thickness declaration will assure that panels are compliant with weights and measures regulations.

2. Addition of non-mandatory appendices that provides guidance on NIST Handbook 130 “Packaging and Labeling Regulations” and on recommended thickness labeling.

3. Addition of non-mandatory appendices on attributes related to Green Building and Formaldehyde.

4. Clarification on sanding requirements.

5. Provisions for one-sided MDO and HDO plywood.

6. Revised definition of the moisture condition of “dry” panels.

7. Clarification on performance requirements.

All public comments will be reviewed and considered. The Standing Committee for PS 1 and NIST will revise the standard accordingly.

Dated: December 11, 2009.
Patrick Gallagher,
Director.

[FR Doc. E9-30135 Filed 12-17-09; 8:45 am]

BILLING CODE 3510-13-P